DEPARTMENT OF HEALTH AND HUMAN SERVICES

Office of Child Support Enforcement

Notice To Award Non-Competitive Successor Award to the State Information Technology Consortium (SITC)

AGENCY: Office of Child Support Enforcement, ACF, DHHS.

ACTION: Notice to award Non-Competitive Successor Award to the State Information Technology Consortium (SITC).

CFDA#: 93.601.

Legislative Authority: Legislative Authority: Section 452(j) of the Social Security Act, 42 U.S.C. 652(j), provides Federal funds for information dissemination and technical assistance to States, training of Federal and State staff to improve CSE programs, and research, demonstration, and special projects of regional or national significance relating to the operation of State child support enforcement programs.

Amount of Award: $124,474.

Project Period: 07/1/2008-06/30/2011.

SUMMARY: This notice announces that the Office of Child Support Enforcement (OCSE), will award a Non-Competitive Successor Award to the State Information Technology Consortium (SITC) in Raleigh, North Carolina. The award will enable the SITC to educate judges on effective problem-solving court strategies to deal with parents who do not make their child support payments.

FOR FURTHER INFORMATION CONTACT: Contact for Further Information: Larry R. Holtz, Program Specialist, Division of State, Tribal and Local Assistance, Office of Child Support Enforcement, 370 L'Enfant Promenade SW., Washington, DC 20447. Telephone: 202-401-5376. E-mail: Larry.Holtz@acf.hhs.gov.

Dated: March 16, 2009.
Donna J. Bonar,
Acting Commissioner, Office of Child Support Enforcement.

[FR Doc. E9-6119 Filed 3-19-09; 8:45 am]

BILLING CODE